DEPARTMENT OF THE INTERIOR

Bureau of Land Management

[NM-020-1430-ES, NMNM 99153, NMNM 80711]

Notice or Realty Action; Recreation and Public Purposes (R&PP) Act Classification; New Mexico

AGENCY: Bureau of Land Management, DOI.

ACTION: Notice.

SUMMARY: The following public lands in Rio Arriba County, New Mexico have been examined and found suitable for classification for lease or conveyance to The American Legion Griego y Tafoya Post 62 and the Spanish Seventh Day Adventist Church, both non-profit organizations, under the provisions of the Recreation and Public Purposes Act, as amended (43 U.S.C. 869 et seq.). The American Legion Post 62 proposes to use the lands for a placement of a facility for the purpose of a meeting location and the Spanish Seventh Day Adventist Church proposes to use the lands for a cemetery site.

American Legion Griego y Tafoya Post 62

New Mexico Principal Meridian

T. 23 N., R. 10 E.,

Sec. 28, lot 140.

Containing approximately 0.38 acres.

Spanish Seventh Day Adventist Church

New Mexico Principal Meridian

T. 23 N., R. 10 E.,

Sec. 34: lot 4.

Containing approximately 0.59 acres.

The lands are not needed for Federal Purposes. Lease or conveyance is consistent with current BLM land use planning and would be in the public interest.

The lease/conveyance, when issued, will be subject to the following terms, conditions and reservations:

1. Provisions of the Recreation and Public Purposes Act and to all applicable regulations of the secretary of the Interior.

2. A right-of-way for ditches and canals constructed by the authority of the United States.

3. All minerals shall be reserved to the United States, together with the right to prospect for, mine, and remove the minerals.

4. Those rights for a cable transmission system granted to Mark Twain Cablevision Limited Partnership by Permit No. NM-65192 (American Legion lot).

5. Those rights for domestic water system granted to Dixon Mutual Domestic Water Consumers Association by Permit No. NM-51413 (American Legion lot).

Detailed information concerning this action is available for review at the office of the Bureau of Land Management, Taos Resource Area, 226 Cruz Alta, Taos, NM 87571.

Upon publication of this notice in the Federal Register, the lands will be segregated from all other forms of appropriation under the public land laws, including the general mining laws, except for lease or conveyance under the Recreation and Public Purposes Act and leasing under the mineral leasing laws. For a period of 45 days from the date of publication of this notice in the Federal Register, interested persons may submit comments regarding the proposed lease/conveyance or classification of the lands to the Field Office Manager, BLM Taos Office, 226 Cruz Alta Road, Taos, New Mexico 87571.

Classification Comments

Interested parties may submit comments involving the suitability of the land for a meeting facility for the American Legion Griego y Tafoya Post 62 or the Spanish Seventh Day Adventist Church cemetery site. Comments on the classification are restricted to whether the land is physically suited for the proposal, whether the use will maximize the future use or uses of the land, whether the use is consistent with local planning and zoning, or if the use is consistent with State and Federal programs.

Application Comments

Interested parties may submit comments regarding the specific use proposed in the application and plan of development, whether the BLM followed proper administrative procedures in reaching the decision, or any other factor not directly related to the suitability of the land for the proposed use.

Any adverse comments will be reviewed by the State Director. In the absence of any adverse comments, the classification will become effective 60 days from the date of publication of this notice in the Federal Register.

Dated: March 16, 2001.
Ron Huntsinger,
Field Office Manager.

[FR Doc. 01-7602 Filed 3-27-01; 8:45 am]

BILLING CODE 4310-FB-M